FEDERAL COMMUNICATIONS COMMISSION

[WC Docket No. 14-28; DA 14-1310]

Panelist Information for Open Internet Roundtables

AGENCY: Federal Communications Commission.

ACTION: Notice.

SUMMARY: In this document, the Commission released a public notice announcing panelist names and other information for a series of roundtables. The intended effect of this document is to make the public aware of the event and the agenda for the roundtables.

DATES: Tuesday, September 16, 2014, 8:30 a.m.-4:30 p.m.

ADDRESSES: Federal Communications Commission, Commission Meeting Room (TW-C305), 445 12th Street SW., Washington, DC 20554.

FOR FURTHER INFORMATION CONTACT: Kristine Fargotstein, Competition Policy Division, Wireline Competition Bureau, at (202) 418-2774 or by email at Kristine.Fargotstein@fcc.gov.

SUPPLEMENTARY INFORMATION: This is a summary of the Commission's document in WC Docket No. 14-28, DA 14-1310 released September 9, 2014. The complete text in this document is available for public inspection and copying during normal business hours in the FCC Reference Information Center, Portals II, 445 12th Street SW., Room CY-A257, Washington, DC 20554. The document may also be purchased from the Commission's duplicating contractor, Best Copy and Printing, Inc., 445 12th Street SW., Room CY-B402, Washington, DC 20554, telephone (800) 378-3160 or (202) 863-2893, facsimile (202) 863-2898, or via the Internet at http://www.bcpiweb.com. It is available on the Commission's Web site at http://www.fcc.gov.

The roundtables will be free and open to the public, and the FCC also will stream them live at http://www.fcc.gov/live. The location of the roundtables will be the Commission Meeting Room (TW-C305), 445 12th Street SW., Washington, DC 20554. The FCC will make available an overflow room for those in-person attendees who cannot be accommodated in the Commission Meeting Room. We advise persons planning to attend the roundtables in person to leave sufficient time to enter through building security.

The FCC encourages members of the public to submit suggested questions in advance and during the roundtables by email to roundtables@fcc.gov or on Twitter using the hashtag #FCCRoundtables. Please note that by submitting a question, you will be making a filing in an official FCC proceeding. All information submitted, including names, addresses, and other personal information contained in the message, may be publicly available online.

Reasonable accommodations for people with disabilities are available upon request. The request should include a detailed description of the accommodation needed and contact information. We ask that requests for accommodations be made as soon as possible in order to allow the agency to satisfy such requests whenever possible. Send an email to fcc504@fcc.gov or call the Consumer and Governmental Affairs Bureau at 202-418-0530 (voice), 202-418-0432 (TTY).

Proposed Agenda

The Wireline Competition Bureau, Consumer & Governmental Affairs Bureau, and the Wireless Telecommunications Bureau of the Federal Communications Commission (FCC) provide panelist names and other information about the first two events in the Open Internet roundtable series: “Policy Approaches to Ensure an Open Internet” and “Mobile Broadband and the Open Internet,” which will both take place on September 16, 2014. These workshops were previously announced in a Public Notice. At that time, it was unclear whether the workshop would be a “meeting” of the Commission. As such, that Public Notice was not published in the Federal Register. This Public Notice shall serve as notice that a quorum of Commissioners may be present at one or more roundtables, in compliance with Part 0, Subpart F of the Commission's rules. This Notice does not, however, change the “permit-but-disclose” status of the Open Internet proceeding under the Commission's ex parte rules.

Policy Approaches To Ensure an Open Internet

8:30-8:45 a.m. Welcome and Opening Remarks

8:45-10:15 a.m. Roundtable 1: Tailoring Policy to Harms

Two fundamental questions will guide this roundtable: What are the harms to Internet openness in the absence of open Internet regulations, and what are the right policies to address those harms?

Panelists:

Althea Erickson, Policy Director, Etsy

Julie Kearney, Vice President, Consumer Electronics Association

Randolph May, President, Free State Foundation

Barbara van Schewick, Professor of Law, Stanford University

Michael Weinberg, Vice President, Public Knowledge

David Young, Vice President, Federal Regulatory Affairs, Verizon

Moderators:

Julie Veach, Chief, Wireline Competition Bureau, FCC

Matthew DelNero, Deputy Chief, Wireline Competition Bureau, FCC

10:30 a.m.-Noon Roundtable 2: Scope of Open Internet Rules

This roundtable will consider the proper scope of new open Internet rules, with a focus on the definition of reasonable network management, treatment of specialized services, and whether new rules should extend to the point of interconnection between last-mile Internet service providers (ISPs) and other networks and services (i.e., Internet traffic exchange).

Panelists:

Jeff Campbell, Vice President, The Americas, Cisco Systems, Inc.

Daniel Pataki, Executive Director, European Telecommunications Network Operators (ETNO)

Jon M. Peha, Professor, Engineering & Public Policy, Carnegie Mellon Univ.

Matt Wood, Policy Director, Free Press

Corie Wright, Director of Global Public Policy, Netflix, Inc.

Christopher Yoo, John H. Chestnut Professor of Law, Communication, and Computer & Information Science, Univ. of Pennsylvania Law School

Moderators:

Julie Veach, Chief, Wireline Competition Bureau, FCC

Matthew DelNero, Deputy Chief, Wireline Competition Bureau, FCC

Noon-1:00 p.m. Lunch Break

1:00-2:30 p.m. Roundtable 3: Enhancing Transparency

This roundtable will consider proposed enhancements to the existing transparency rule, which currently requires providers of broadband Internet access services to disclose accurate information about their service offerings and make this information accessible to the public.

Panelists:

Jonathan Banks, Senior Vice President, Law and Policy, USTelecom

Gerald R. Faulhaber, Professor Emeritus of Business Economics and Public Policy, Wharton School of the Univ. of Pennsylvania

Leigh Freund, VP & Chief Counsel, Global Public Policy, AOL Inc.

Geoffrey Manne, Executive Director & Founder, International Center for Law & Economics (ICLE)

Claude L. Stout, Executive Director, TDI (f/k/a Telecommunications for the Deaf and Hard of Hearing

Moderators:

Kris Monteith, Acting Chief, Consumer & Governmental Affairs Bureau, FCC

Julie Veach, Chief, Wireline Competition Bureau, FCC

Mobile Broadband and the Open Internet

2:45-3:00 p.m. Welcome and Opening Remarks

3:00-4:30 p.m. Roundtable: Mobile Broadband and the Open Internet

This roundtable will consider the application of Open Internet rules to mobile broadband, with a focus on consumers' use of mobile broadband and on reasonable network management practices in the mobile context.

Panelists:

Amalia Deloney, Policy Director, The Center for Media Justice

Delara Derakhshani, Policy Counsel, Consumers Union

Christopher Guttman-McCabe, Executive Vice President, CTIA—The Wireless Association

Roslyn Layton, Ph.D. Fellow, Center for Communication, Media and Information Technologies, Aalborg University

Sarah Morris, Senior Policy Counsel, Open Technology Institute, New America

Jonathan Spalter, Chair, Mobile Future

Moderators:

Roger Sherman, Chief, Wireless Telecommunication Bureau, FCC

Jim Schlichting, Senior Deputy Chief, Wireless Telecommunication Bureau, FCC

Federal Communications Commission.
Claude Aiken,
Acting Deputy Division Chief, Competition Policy Division, Wireline Competition Bureau.

[FR Doc. 2014-22058 Filed 9-15-14; 8:45 am]

BILLING CODE 6712-01-P